SURFACE TRANSPORTATION BOARD

[Docket No. FD 36403]

Trans Rail Holding Company—Continuance of Control Exemption—Merrimack & Grafton Railroad Corporation

Trans Rail Holding Company (TRHC), a noncarrier railroad holding company, has filed a verified notice of exemption under 49 CFR 1180.2(d)(2) to continue in control of Merrimack & Grafton Railroad Corporation (MGRC), upon MGRC's becoming a Class III rail carrier.

This transaction is related to a concurrently filed verified notice of exemption in Merrimack & Grafton Railroad—Change of Operators Exemption—Line of New England Southern Railroad, Docket No. FD 36405. In that proceeding, MGRC seeks an exemption under 49 CFR 1150.31 to operate over approximately 73 miles of rail line in New Hampshire (the Line).

According to the verified notice, TRHC currently controls five Class III railroads through ownership of their controlling stock: (1) Vermont Railway, Inc.; (2) the Clarendon and Pittsford Railroad Company; (3) Washington County Railroad Company; (4) the New York & Ogdensburg Railway Company, Inc.; and (5) Green Mountain Railroad Corporation.

The verified notice states that: (1) The Line does not connect with any of the tracks of the other five railroads controlled by TRHC; (2) the transaction is not part of a series of anticipated transactions that would connect the Line to any of the tracks of the other railroads; and (3) neither MGRC nor any of the carriers controlled by TRHC are Class I rail carriers. The proposed transaction is therefore exempt from the prior approval requirements of 49 U.S.C. 11323. See 49 CFR 1180.2(d)(2).

The earliest this transaction may be consummated is June 20, 2020, the effective date of the exemption (30 days after the verified notice was filed).

Under 49 U.S.C. 10502(g), the Board may not use its exemption authority to relieve a rail carrier of its statutory obligation to protect the interests of its employees. However, 49 U.S.C. 11326(c) does not provide for labor protection for transactions under 49 U.S.C. 11324 and 11325 that involve only Class III rail carriers. Because this transaction involves Class III rail carriers only, the Board, under the statute, may not impose labor protective conditions for this transaction.

If the verified notice contains false or misleading information, the exemption is void ab initio. Petitions to revoke the exemption under 49 U.S.C. 10502(d) may be filed at any time. The filing of a petition to revoke will not automatically stay the effectiveness of the exemption. Petitions to stay must be filed no later than June 12, 2020 (at least seven days before the exemption becomes effective).

All pleadings, referring to Docket No. FD 36403, must be filed with the Surface Transportation Board either via e-filing or in writing addressed to 395 E Street SW, Washington, DC 20423-0001. In addition, a copy of each pleading must be served on TRHC's representative, Thomas W. Wilcox, GKG Law, P.C., 1055 Thomas Jefferson Street NW, Suite 500, Washington, DC 20007.

According to the verified notice, this action is categorically excluded from environmental review under 49 CFR 1105.6(c) and from historic preservation reporting requirements under 49 CFR 1105.8(b)(1).

Board decisions and notices are available at www.stb.gov.

Decided: June 2, 2020.
By the Board, Allison C. Davis, Director, Office of Proceedings.
Brendetta Jones,
Clearance Clerk.

[FR Doc. 2020-12229 Filed 6-4-20; 8:45 am]

BILLING CODE 4915-01-P